DEPARTMENT OF TRANSPORTATION

Federal Aviation Administration

14 CFR Part 39

[Docket No. 2002-NM-166-AD; Amendment 39-12845; AD 2002-16-06]

RIN 2120-AA64

Airworthiness Directives; Empresa Brasileira de Aeronautica S.A. (EMBRAER) Model EMB-135 and -145 Series Airplanes

AGENCY: Federal Aviation Administration, DOT.

ACTION: Final rule; correction.

SUMMARY: This document corrects a typographical error that appeared in airworthiness directive (AD) 2002-16-06 that was published in the Federal Register on August 12, 2002 (67 FR 52398). The typographical error resulted in specifying an incorrect serial number for the auxiliary power unit (APU) exhaust silencer. This AD is applicable to certain EMBRAER Model EMB-135 and -145 series airplanes. This AD requires determining whether a defective APU exhaust silencer is installed on the airplane; and corrective actions, if necessary.

DATES: Effective August 27, 2002.

FOR FURTHER INFORMATION CONTACT: Tom Groves, Aerospace Engineer, International Branch, ANM-116, FAA, Transport Airplane Directorate, 1601 Lind Avenue, SW., Renton, Washington 98055-4056; telephone (425) 227-1503; fax (425) 227-1149.

SUPPLEMENTARY INFORMATION: Airworthiness Directive (AD) 2002-16-06, amendment 39-12845, applicable to certain EMBRAER Model EMB-135 and -145 series airplanes, was published in the Federal Register on August 12, 2002 (67 FR 52398). That AD requires determining whether a defective APU exhaust silencer is installed on the airplane; and corrective actions, if necessary.

As published, paragraph (a) of AD 2002-16-06 incorrectly specifies serial number M01-0327 through “N01-0336.” The correct serial number is M01-0327 through “M01-0336.”

Since no other part of the regulatory information has been changed, the final rule is not being republished in the Federal Register.

The effective date of this AD remains August 27, 2002.

§ 39.13 [Corrected]

On page 52400, in the third column, paragraph (a) of AD 2002-16-06 is corrected to read as follows:

* * * * *

(a) Within 50 flight hours after the effective date of this AD, inspect the APU exhaust silencer to determine whether part number (P/N) 4503801B, serial number L01-0314 through L01-0326 inclusive, and serial number M01-0327 through M01-0336 inclusive, is installed on the airplane; per the Accomplishment Instructions of EMBRAER Alert Service Bulletin 145-49-A021, Change 01, dated May 13, 2002.

* * * * *

Issued in Renton, Washington, on September 5, 2002.
Ali Bahrami,
Acting Manager, Transport Airplane Directorate, Aircraft Certification Service.

[FR Doc. 02-23287 Filed 9-12-02; 8:45 am]

BILLING CODE 4910-13-P